DEPARTMENT OF COMMERCE

International Trade Administration

[A-570-868]

Folding Metal Tables and Chairs from the People's Republic of China: Notice of Final Results of Expedited Sunset Review of Antidumping Duty Order

AGENCY: Import Administration, International Trade Administration, Department of Commerce.

EFFECTIVE DATE: September 7, 2007.

FOR FURTHER INFORMATION CONTACT: Matthew Quigley at (202) 482-4551, AD/CVD Operations, Office 8, Import Administration, International Trade Administration, U.S. Department of Commerce, 14th Street and Constitution Avenue, NW., Washington, DC 20230.

SUMMARY: On May 1, 2007, the Department of Commerce (“the Department”) initiated a sunset review of the antidumping duty order on folding metal tables and chairs from the People's Republic of China (“PRC”). On the basis of a notice of intent to participate, and an adequate substantive response filed on behalf of domestic interested parties, as well as a lack of response from respondent interested parties, the Department conducted an expedited (120-day) sunset review. As a result of the sunset review, the Department finds that revocation of the antidumping duty order would be likely to lead to continuation or recurrence of dumping. The dumping margins are identified in the Final Results of Review section of this notice.

SUPPLEMENTARY INFORMATION:

Background:

On May 1, 2007, the Department published the notice of initiation of the sunset review of the antidumping duty order on folding metal tables and chairs from the PRC pursuant to section 751(c) of the Tariff Act of 1930, as amended (“the Act”). See Initiation of Five-year (“Sunset”) Reviews, 72 FR 23799 (May 1, 2007) (“Initiation Notice”). On May 16, 2007, the Department received a notice of intent to participate from domestic interested parties, Meco Corporation (“Meco”) and KI, within the deadline specified in section 315.218(d)(1)(i) of the Department's regulations. Meco and KI claimed interested party status under section 771(9)(C) of the Act, as domestic producers of folding metal tables and chairs in the United States. On May 31, 2007, the Department received a substantive response from domestic interested parties within the deadline specified in section 351.218(d)(3)(i) of the Department's regulations. We did not receive responses from any respondent interested parties to this proceeding. As a result, pursuant to section 751(c)(3)(B) of the Act and section 351.218(e)(1)(ii)(C)(2) of the Department's regulations, the Department determined to conduct an expedited review of the order.

Scope of the Order:

The products covered by this order consist of assembled and unassembled folding tables and folding chairs made primarily or exclusively from steel or other metal, as described below:

1) Assembled and unassembled folding tables made primarily or exclusively from steel or other metal (folding metal tables). Folding metal tables include square, round, rectangular, and any other shapes with legs affixed with rivets, welds, or any other type of fastener, and which are made most commonly, but not exclusively, with a hardboard top covered with vinyl or fabric. Folding metal tables have legs that mechanically fold independently of one another, and not as a set. The subject merchandise is commonly, but not exclusively, packed singly, in multiple packs of the same item, or in five piece sets consisting of four chairs and one table. Specifically excluded from the scope of the order regarding folding metal tables are the following:

a. Lawn furniture;

b. Trays commonly referred to as “TV trays”;

c. Side tables;

d. Child-sized tables;

e. Portable counter sets consisting of rectangular tables 36” high and matching stools; and,

f. Banquet tables. A banquet table is a rectangular table with a plastic or laminated wood table top approximately 28” to 36” wide by 48” to 96” long and with a set of folding legs at each end of the table. One set of legs is composed of two individual legs that are affixed together by one or more cross-braces using welds or fastening hardware. In contrast, folding metal tables have legs that mechanically fold independently of one another, and not as a set.

2) Assembled and unassembled folding chairs made primarily or exclusively from steel or other metal (folding metal chairs). Folding metal chairs include chairs with one or more cross-braces, regardless of shape or size, affixed to the front and/or rear legs with rivets, welds or any other type of fastener. Folding metal chairs include: those that are made solely of steel or other metal; those that have a back pad, a seat pad, or both a back pad and a seat pad; and those that have seats or backs made of plastic or other materials. The subject merchandise is commonly, but not exclusively, packed singly, in multiple packs of the same item, or in five piece sets consisting of four chairs and one table. Specifically excluded from the scope of the order regarding folding metal chairs are the following:

a. Folding metal chairs with a wooden back or seat, or both;

b. Lawn furniture;

c. Stools;

d. Chairs with arms; and

e. Child-sized chairs.

The subject merchandise is currently classifiable under subheadings 9401.71.0010, 9401.71.0030, 9401.79.0045, 9401.79.0050, 9403.20.0015, 9403.20.0030, 9403.70.8010, 9403.70.8020, and 9403.70.8030 of the Harmonized Tariff Schedule of the United States (“HTSUS”).¹ Although the HTSUS subheadings are provided for convenience and customs purposes, the Department's written description of the merchandise is dispositive.

¹ Originally the scope included 9403.20.0010, but effective July 1, 2003, 9403.20.0010 (metal household furniture) was eliminated from the HTS code. 9403.20.0011 (ironing boards) and 9403.20.0015 (other) were added in its place. 9403.20.0015 contains merchandise in 9403.20.0010 except for ironing boards.

On January 13, 2003, the Department issued a scope ruling determining that “Poly-Fold” chairs consisting of steel frames (20-gauge steel) with polypropylene seats and backs, zinc-plated rivets coated with an epoxy polyester powder coating, three drainage holes in the seat, specially designed back leg cross bar, four oversized leg stoppers with drainage holes, and a frame with hybrid coating are within the scope of the antidumping duty order.²

² See the Memorandum to Joseph A. Spetrini, Deputy Assistant Secretary for Import Administration, Group III, From Richard Weible, Director, Office 8, AD/CVD Enforcement “Final Scope Ruling on Whether RPA International Pty. Ltd.'s Poly-Fold Chairs Are Excluded from the Scope of the Antidumping Duty Order on Folding Metal Tables and Chairs from the People's Republic of China,” January 13, 2003.

On May 5, 2003, the Department issued a scope ruling with respect to the “Complete Office-To-Go” set, which consists of a single chair and a table with a monitor stand and legs that fold as a set. The Department ruled that the chair component is within the scope of the antidumping duty order because the chair component is identical to the chairs described in the order, but the Department ruled that table component is outside the scope of the antidumping duty order because it has legs that fold in sets.³

³ See the Memorandum to Barbara Tillman, Acting Deputy Assistant Secretary for Import Administration, Group III, From Richard Weible, Director, Office 8, AD/CVD Enforcement “Final Scope Ruling on Whether Staples, The Office Superstore Incorporated's ‘Complete Office-To-Go’ is Excluded from the Scope of the Antidumping Duty Order on Folding Metal Tables and Chairs from the People's Republic of China,” May 5, 2003.

On September 7, 2004, the Department issued a scope ruling determining that folding tables with tops made of blow-molded plastic and frames made of steel are within the scope of the antidumping duty order.⁴

⁴ See the Memorandum to Jeffrey A. May, Deputy Assistant Secretary for Import Administration, Through Edward C. Yang, Senior Enforcement Coordinator, China/NME Group, From Kristina Boughton, International Trade Compliance Analyst, China/NME Group, Office 9, “Final Scope Ruling on Whether Lifetime Tables 4600 and 4606 Are Excluded from the Scope of the Antidumping Duty Order on Folding Metal Tables and Chairs from the People's Republic of China,” September 7, 2004.

On July 13, 2005, the Department issued a scope ruling determining that folding metal chairs, with wooden seats that have been padded with foam and covered with fabric or polyvinyl chloride and attached to a tubular steel seat frame with screws, are within the scope of the antidumping duty order.⁵

⁵ See the Memorandum to Barbara Tillman, Acting Deputy Assistant Secretary for Import Administration, Group III, From Wendy J. Frankel, Director, AD/CVD Operations, Office 8 “Final Scope Ruling of the Antidumping Duty Order on Folding Metal Tables and Chairs from the People's Republic of China (A-570-868); Korhani of America, Inc.,” July 13, 2005.

Also on July 13, 2005, the Department issued a scope ruling determining that “butterfly” chairs are outside the scope of the antidumping duty order. Butterfly chairs are described as consisting of a collapsible metal rod frame and a cover, such that when the chair frame is spread open, the pockets of the cover are slipped over the upper ends of the frame and the cover provides both the seating surface and back of the chair. The frame consists of eight s-shaped pieces (with the ends offset at almost a 90-degree angle) made from metal rod that are connected by hinges. In order to collapse the frame, the chair cover must be removed. The frame is collapsed by moving the four legs inward until they meet in the center, similar to the folding mechanism of a pocket umbrella.⁶

⁶ See the Memorandum to Barbara Tillman, Acting Deputy Assistant Secretary for Import Administration, From Wendy J. Frankel, Director, AD/CVD Operations, Office 8 “Final Scope Ruling of the Antidumping Duty Order on Folding Metal Tables and Chairs from the People's Republic of China (A-570-868); Spencer Gifts, LLC,” July 13, 2005.

On May 1, 2006, the Department issued a scope ruling determining that “moon chairs” are outside the scope of the antidumping duty order. Moon chairs are described as containing circular, fabric-padded, concave cushions that envelope the user at approximately a 105-degree reclining angle. The fabric cushion is ringed and supported by two curved 16-mm steel tubes. The cushion is attached to this ring by nylon fabric. The cushion is supported by a 16-mm steel tube four-sided rectangular cross-brace mechanism that constitutes the moon chair's legs. This mechanism supports and attaches to the encircling tubing and enables the moon chair to be folded. To fold the chair, the user pulls on a fabric handle in the center of the seat cushion of the chair.⁷

⁷ See the Memorandum to Stephen J. Claeys, Deputy Assistant Secretary for Import Administration, from Wendy J. Frankel, Director, AD/CVD Operations, Office 8 “Final Scope Ruling of the Antidumping Duty Order on Folding Metal Tables and Chairs from the People's Republic of China (A-570-868); Mac Industries (Shanghai) Co., Ltd., Jiaxing Yinmao International Trading Company, Ltd and Fujian Zenithen Consumer Products Company Ltd.,” May 1, 2005.

Analysis of Comments Received:

All issues raised in this review are addressed in the “Issues and Decision Memorandum” (“Decision Memorandum”) from Stephen J. Claeys, Deputy Assistant Secretary for Import Administration, to David M. Spooner, Assistant Secretary for Import Administration, dated August 29, 2007, which is hereby adopted by this notice. The issues discussed in the Decision Memorandum include the likelihood of continuation or recurrence of dumping and the magnitude of the margins likely to prevail if the order were revoked. Parties can find a complete discussion of all issues raised in this review and the corresponding recommendations in this public memorandum, which is on file in room B-099 of the main Commerce building.

In addition, a complete version of the Decision Memorandum can be accessed directly on the web at http://ia.ita.doc.gov/. The paper copy and electronic version of the Decision Memorandum are identical in content.

Final Results of Review:

Pursuant to section 752(c)(3) of the Act, we determine that revocation of the antidumping duty order on folding metal tables and chairs from the PRC would be likely to lead to continuation or recurrence of dumping at the following weighted-average percentage margins:

Manufacturers/Exporters/Producers | Weighted-Average Margin (percent)
Dongguan Shichang | 13.72
Feili | 13.72
New-Tec | 13.72
PRC-wide | 70.71

This notice also serves as the only reminder to parties subject to administrative protective orders (“APO”) of their responsibility concerning the return or destruction of proprietary information disclosed under APO in accordance with section 351.305 of the Department's regulations. Timely notification of the return or destruction of APO materials or conversion to judicial protective order is hereby requested. Failure to comply with the regulations and terms of an APO is a violation which is subject to sanction.

We are issuing and publishing the results and notice in accordance with sections 751(c), 752(c), and 777(i)(1) of the Act.

Dated: August 29, 2007.
David M. Spooner,
Assistant Secretary for Import Administration.

[FR Doc. E7-17702 Filed 9-6-07; 8:45 am]

BILLING CODE 3510-DS-S